DEPARTMENT OF THE INTERIOR

National Park Service

[NPS-WASO-NRNHL-11268; 2200-3200-665]

National Register of Historic Places; Notification of Pending Nominations and Related Actions

Nominations for the following properties being considered for listing or related actions in the National Register were received by the National Park Service before September 8, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by October 26, 2012. Before including your address, phone number, email address, or other personal identifying information in your comment, you should be aware that your entire comment—including your personal identifying information—may be made publicly available at any time. While you can ask us in your comment to withhold your personal identifying information from public review, we cannot guarantee that we will be able to do so.

Dated: September 12, 2012.
J. Paul Loether,
Chief, National Register of Historic Places/ National Historic Landmarks Program.

ILLINOIS

Peoria County

U.S. Post Office and Courthouse, 100 NE. Monroe St., Peoria, 12000878

MINNESOTA

Otter Tail County

United States Post Office and Courthouse, 118 S. Mill St., Fergus Falls, 12000879

NEW JERSEY

Monmouth County

Gregory Primary School, 157 N. 7th Ave., Long Branch, 12000880

NORTH DAKOTA

Cass County

Wilson, Woodrow, School, 315 N. University Dr., Fargo, 12000881

SOUTH CAROLINA

Spartanburg County

Drayton Mill, 1802 Drayton Rd., Spartanburg, 12000882

UTAH

Davis County

Lagoon Carousel, (Lagoon Amusement Park, Farmington, Utah MPS) 375 Lagoon Dr., Farmington, 12000883

Lagoon Flying Scooter, (Lagoon Amusement Park, Farmington, Utah MPS) 375 N. Lagoon Dr., Farmington, 12000884

Lagoon Roller Coaster, (Lagoon Amusement Park, Farmington, Utah MPS) 375 N. Lagoon Dr., Farmington, 12000885

[FR Doc. 2012-24959 Filed 10-10-12; 8:45 am]

BILLING CODE 4312-51-P